NUCLEAR WASTE TECHNICAL REVIEW BOARD

Meeting

Board meeting: March 19, 2014—The U.S. Nuclear Waste Technical Review Board will meet to discuss DOE R&D activities related to salt as a geologic medium for disposal of SNF and HLW.

Pursuant to its authority under section 5051 of Public Law 100-203, Nuclear Waste Policy Amendments Act of 1987, the U.S. Nuclear Waste Technical Review Board will hold a public meeting in Albuquerque, NM, on Wednesday, March 19, 2014. The main topic of the meeting is the Department of Energy (DOE) research and development (R&D) activities related to salt as a geologic medium for the disposal of spent nuclear fuel (SNF) and high-level radioactive waste (HLW). Speakers from the DOE Office of Nuclear Energy will present work on a range of studies, including performance assessment modeling of a generic salt disposal system for SNF and HLW, coupled models for thermal-hydrological-chemical and thermal-hydrological-mechanical processes in a salt repository, and brine migration experimental studies for salt repositories. The Board also will hear a presentation on DOE activities related to resumption of NRC work on the Yucca Mountain License Application. In addition, a speaker from the DOE Office of Environmental Management will describe lessons learned from managing remote-handled radioactive wastes at the Waste Isolation Pilot Plant in Carlsbad, NM.

The meeting will begin at 8:00 a.m. and will be held at the Marriott Hotel, 2101 Louisiana Blvd. NE., Albuquerque, New Mexico; Tel. 505-881-6800, Fax 505-888-2982. A block of rooms has been reserved at the hotel for meeting attendees. Reservations can be made by calling 800 228-9290 or through the online reservations link on the Board's Web site calendar page (http://www.nwtrb.gov/calendar/calendar.html). Reservations must be made by Sunday, March 2, 2014, to ensure receiving the meeting rate.

A detailed agenda will be available on the Board's Web site at www.nwtrb.gov approximately one week before the meeting. The meeting will be open to the public, and opportunities for public comment will be provided at the end of the day. Those wanting to speak are encouraged to sign the “Public Comment Register” at the check-in table. A time limit may need to be set for individual remarks, but written comments of any length may be submitted for the record. Transcripts of the meeting will be available on the Board's Web site after April 21, 2014.

The Board was established in the 1987 amendments to the Nuclear Waste Policy (NWPA) as an independent agency in the Executive branch to perform an ongoing objective evaluation of the technical validity of activities undertaken by the U.S. Department of Energy related to implementing the NWPA. Board members are experts in their fields and are appointed by the President from a list of candidates submitted by the National Academy of Sciences. The Board is required to report its findings, conclusions, and recommendations to Congress and the Secretary of Energy. Board reports, correspondence, congressional testimony, and meeting transcripts and materials are posted on the Board's Web site.

For information on the meeting, contact Karyn Severson at severson@nwtrb.gov or Roberto Pabalan at pabalan@nwtrb.gov. For information on lodging or logistics, contact Linda Coultry at coultry@nwtrb.gov. They all can be reached by phone at 703-235-4473.

Dated: January 31, 2014.
Nigel Mote,
Executive Director, U.S. Nuclear Waste Technical Review Board.

[FR Doc. 2014-02432 Filed 2-5-14; 8:45 am]

BILLING CODE 6820-AM-M